DEPARTMENT OF TRANSPORTATION

Maritime Administration

[Docket No. MARAD-2019-0011]

Deepwater Port License Application: SPOT Terminal Services, LLC—Draft General Conformity Determination

AGENCY: Maritime Administration, Department of Transportation.

ACTION: Notice of Draft General Conformity Determination.

SUMMARY: The Maritime Administration (MARAD) and the U.S. Coast Guard (USCG) announce the availability of the Draft General Conformity Determination to ensure that the air emissions associated with the Sea Port Oil Terminal (SPOT) Deepwater Port Project (Project or SPOT Project) conform with the Texas State Implementation Plan (SIP). A Notice of Application that summarized the SPOT Deepwater Port License Application was published in the Federal Register on March 4, 2019. A Notice of Intent to Prepare an Environmental Impact Statement (EIS) and Notice of Public Scoping Meetings was published in the Federal Register on March 7, 2019. A Notice of Availability of the Draft Environmental Impact Statement (EIS) and Notice of Public Meetings was published in the Federal Register on February 7, 2020. This notice incorporates the aforementioned Federal Register notices by reference. The SPOT Project proposes to provide United States (U.S.) crude oil loading services on very large crude carriers (VLCCs) and other crude oil carriers for export to the global market. Publication of this notice begins a 30-day comment period, requests public participation in the general conformity review process, and provides information on how to participate in this process.

DATES: To ensure your comments are considered, MARAD and the USCG request that all comments be submitted to the http://www.regulations.gov website or the Federal Docket Management Facility as detailed in the ADDRESSES section below, 30 days from the date of publication.

ADDRESSES: The SPOT Deepwater Port License Application, the Draft EIS, this Draft General Conformity Determination, and other associated documents are available for viewing at the Federal eRulemaking portal at http://www.regulations.gov under docket number MARAD-2019-0011 (https://www.regulations.gov/docket/MARAD-2019-0011). The Final EIS and Final General Conformity Determination, when published, will be announced and be available at the Regulations.gov website.

The public docket for the SPOT Deepwater Port License Application is maintained by the U.S. Department of Transportation, Docket Management Facility, West Building, Ground Floor, Room W12-140, 1200 New Jersey Avenue SE, Washington, DC 20590. Comments on the Draft General Conformity Determination may be submitted to this address and must include the docket number for this project, which is MARAD-2019-0011. The Federal Docket Management Facility's telephone number is 202-366-9317 or 202-366-9826; the fax number is 202-493-2251.

We encourage you to submit comments electronically through the Federal eRulemaking Portal at http://www.regulations.gov. If you submit your comments electronically, it is not necessary to also submit a hard copy by mail. If you cannot submit material using http://www.regulations.gov, please contact either Mr. Matthew Layman, USCG, or Dr. Efrain Lopez, MARAD, as listed in the following FOR FURTHER INFORMATION CONTACT section of this document. This section provides alternate instructions for submitting written comments. Additionally, if you go to the online docket and sign up for email alerts, you will be notified when comments are posted.

FOR FURTHER INFORMATION CONTACT: Mr. Matthew Layman, Project Manager, USCG, telephone: 202-372-1421, email: Matthew.D.Layman@uscg.mil; or Dr. Efrain Lopez, Project Manager, Office of Deepwater Ports and Port Conveyance, MARAD, telephone: 202-366-9761, email: Efrain.Lopez@dot.gov.

SUPPLEMENTARY INFORMATION:

Request for Comments

We request public comments or other relevant information related to the Draft General Conformity Determination for the proposed SPOT deepwater port. These comments will be considered in development of the Final General Conformity Determination. MARAD and the USCG prefer that comments be submitted electronically. Regardless of the method you use to submit comments or material, all submissions will be posted without change to the Federal Docket Management Facility website (https://www.regulations.gov/docket/MARAD-2019-0011) and will include any personal information you provide. Therefore, submitting this information makes it public. You may wish to read the Privacy and Use Notice that is available on the http://www.regulations.gov website, and the Department of Transportation (DOT) Privacy Act Notice that appeared in the Federal Register on April 11, 2000 (65 FR 19477), see Privacy Act section of this document. You may view docket submissions at the DOT Docket Management Facility or electronically at the http://www.regulations.gov website.

Background

On January 31, 2019, MARAD and USCG received an application from SPOT for all Federal authorizations required for a license to own, construct, and operate a deepwater port for the export of oil. The proposed deepwater port would be located in Federal waters approximately 27.2 to 30.8 nautical miles off the coast of Brazoria County, Texas. Texas was designated as the Adjacent Coastal State for the SPOT license application.

The Federal agencies involved held a public scoping meeting in connection with the evaluation of the SPOT license application. The public scoping meeting was held in Lake Jackson, Texas on March 20, 2019. The transcript of the scoping meeting is included on the public docket located at https://www.regulations.gov/document/MARAD-2019-0011-0019. The Federal agencies also held a Draft EIS public comment meeting to receive comments on the Draft EIS. The public comment meeting was held in Lake Jackson, Texas on February 26, 2020. A second 30-day public comment period due to COVID began on May 1, 2021 and ended on May 31, 2021. The transcripts of the DEIS public comment meetings are also included on the public docket at https://www.regulations.gov/document/MARAD-2019-0011-0019-1192.

The purpose of this Draft General Conformity Determination is to ensure that the air emissions associated with the SPOT Project conform with the Texas SIP in accordance with 40 CFR part 93, subpart B. The Draft General Conformity Determination is currently available for public review at the Federal docket website: http://www.regulations.gov under docket number MARAD-2019-0011.

This review and determination is triggered by air emissions from construction activities proposed by SPOT Terminals, LLC (the Applicant) that would exceed the applicable General Conformity de minimis threshold of 50 tons per year of nitrogen oxides or volatile organic compounds set by Determinations of Attainment by the Attainment Date, Extensions of the Attainment Date, and Reclassification of Several Areas Classified as Moderate for the 2008 Ozone National Ambient Air Quality Standards, published in the Federal Register on August 23, 2019 (84 FR 44238), within the Houston-Galveston-Brazoria (HGB) area. The HGB area includes Brazoria, Chambers, Fort Bend, Galveston, Harris, Liberty, Montgomery, and Waller counties, and extends 9 nautical miles offshore over state water.

Summary of the License Application

SPOT is proposing to own, construct, and operate a deepwater port terminal in the Gulf of Mexico to export domestically produced crude oil. Use of the deepwater port would include the loading of various grades of crude oil at flow rates of up to 85,000 barrels per hour (bph). The SPOT deepwater port would allow for up to two very large crude carriers (VLCCs) or other crude oil carriers to moor at single point mooring (SPM) buoys and connect with the deepwater port via floating crude oil hoses and floating vapor recovery hoses. The maximum frequency of loading VLCCs or other crude oil carriers would be 2 million barrels per day, 365 days per year.

The proposed SPOT Deepwater Port (DWP) would be located in Federal waters of the Gulf of Mexico, in Galveston Area Outer Continental Shelf lease blocks 463 and A-59, approximately 27.2 to 30.8 nautical miles off the coast of Brazoria County, Texas, in water depths of approximately 115 feet. Onshore components of the proposed Project would be located in both Brazoria and Harris counties.

The overall project would consist of both onshore and offshore marine components. The onshore components would consist of:

• Modifications to the existing Enterprise Crude Houston (ECHO) Terminal, including four electric motor-driven mainline crude oil pumps, four electric motor-driven booster crude oil pumps, and one measurement skid to support delivery of crude oil to the proposed Oyster Creek Terminal;

• One 50.1-mile, 36-inch-diameter ECHO to Oyster Creek Pipeline;

• One pipeline interconnection from the existing Rancho II 36-inch-diameter pipeline to the ECHO to Oyster Creek Pipeline (Rancho II Junction);

• A new Oyster Creek Terminal on approximately 140 acres of land, including six electric motor-driven mainline crude oil pumps with the capacity to push crude oil to the offshore pipelines at a rate of up to 85,000 bph, four electric motor-driven booster crude oil pumps, seven aboveground storage tanks (each with a capacity of 685,000 barrels [600,000 barrels of working storage]) for a total onshore storage capacity of approximately 4.8 million barrels (4.2 million barrels working storage) of crude oil, metering equipment, two permanent and one portable vapor combustion units, and a firewater system;

• Two collocated 12.2-mile, 36-inch-diameter Oyster Creek to Shore Pipelines; and

• Ancillary facilities for the onshore pipelines, including ten mainline valves, of which six would be along the ECHO to Oyster Creek Pipeline and four along the Oyster Creek to Shore Pipelines, pig launchers for the ECHO to Oyster Creek Pipeline, and pig launchers and receivers for the Oyster Creek to Shore Pipelines.

The offshore and marine components would consist of:

• Two collocated, bi-directional, 46.9-mile, 36-inch-diameter crude oil offshore pipelines for crude oil delivery from the Oyster Creek Terminal to the platform;

• One fixed offshore platform with eight piles, four decks, and three vapor combustion units;

• Two SPM buoys to concurrently moor two VLCCs or other crude oil carriers with capacities between 120,000 and 320,000 deadweight tonnage for loading up to 365 days per year, including floating crude oil and vapor recovery hoses;

• Four pipeline end manifolds (PLEMs)—two per SPM buoy—to provide the interconnection between the SPOT DWP and the SPM buoys;

• Four 0.66-nautical mile, 30-inch-diameter pipelines (two per PLEM) to deliver crude oil from the platform to the PLEMs;

• Four 0.66-nautical mile, 16-inch diameter vapor recovery pipelines (two per PLEM) to connect the VLCC or other crude oil carrier to the three vapor combustion units on the platform.

• Three service vessel moorings, located in the southwest corner of Galveston Area lease block 463; and

• An anchorage area in Galveston Area lease block A-59, which would not contain any infrastructure.

As stated, the purpose of this notice is to announce the availability of the Draft General Conformity Determination to ensure that the SPOT Project conforms with the Texas SIP. Comments are welcomed.

Privacy Act

Regardless of the method used for submitting comments or materials, all submissions will be posted, without change, to the http://www.regulations.gov website and will include any personal information you provide. Therefore, submitting this information to the docket makes it public. You may wish to read the Privacy and Security Notice and the User Notice that are available at https://www.federalregister.gov/documents/2005/03/24/05-5823/establishment-of-a-new-system-of-records-notice-for-the-federal-docket-management-system. The Privacy Act notice regarding the Federal Docket Management System is available in the March 24, 2005 issue of the Federal Register (70 FR 15086).

(Authority: 33 U.S.C. 1501 et seq., 49 CFR 1.93(h)).

By Order of the Acting Maritime Administrator.
T. Mitchell Hudson, Jr.,
Secretary, Maritime Administration.

[FR Doc. 2021-22048 Filed 10-7-21; 8:45 am]

BILLING CODE 4910-81-P